DEPARTMENT OF THE INTERIOR

Minerals Management Service

Minerals Management Advisory Board, Outer Continental Shelf (OCS), Scientific Committee (SC)

AGENCY: Minerals Management Service, Interior.

ACTION: Notice of vacancies and request for nominations.

SUMMARY: The MMS is seeking interested and qualified individuals to serve on its Minerals Management Advisory Board OCS SC during the period of October 1, 2002, through September 30, 2004. The initial 2-year term may be renewable for up to an additional 4 years.

ADDRESSES: Interested individuals should send a letter of interest and resume within 60 days to: Ms. Julie Reynolds, Program Planner, Offshore Minerals Management, Minerals Management Service, 381 Elden Street, Mail Stop 4001, Herndon, Virginia 20170. She may be reached by telephone at (703) 787-1211.

SUPPLEMENTARY INFORMATION: The OCS SC is chartered under the Federal Advisory Committee Act to advise the Director of the MMS on the appropriateness, feasibility, and scientific value of the OCS Environmental Studies Program (ESP) and environmental aspects of the offshore oil and gas program. The ESP, which was authorized by the OCS Lands Act as amended (Section 20), is administered by the MMS and covers a wide range of field and laboratory studies in biology, chemistry, and physical oceanography, as well as studies of the social and economic impacts of OCS oil and gas development. Currently, the work is conducted through award of competitive contracts and interagency and cooperative agreements. The OCS SC reviews the relevance of the information being produced by the ESP and may recommend changes in its scope, direction, and emphasis.

The OCS SC comprises distinguished scientists in appropriate disciplines of the biological, physical, chemical, and socioeconomic sciences. Vacancies, which need to be filled, exist in the social science, ecology/biology, and physical oceanography disciplines. The selection is based on maintaining disciplinary expertise in all areas of research, as well as geographic balance. Demonstrated knowledge of the scientific issues related to OCS oil and gas development is essential. Selection is made by the Department of the Interior on the basis of these factors; appointments to the Committee are made by the Secretary of the Interior.

Authority: Federal Advisory Committee Act, P.L. 92-463, 5 U.S.C., Appendix I, and the Office of Management and Budget's Circular A-63, Revised.

Dated: March 22, 2002.
Thomas A. Readinger,
Associate Director for Offshore Minerals Management.

[FR Doc. 02-8845 Filed 4-11-02; 8:45 am]

BILLING CODE 4310-MR-P